DEPARTMENT OF AGRICULTURE

Agricultural Research Service

Notice of Intent To Grant Exclusive License

AGENCY: Agricultural Research Service, USDA.

ACTION: Notice of intent.

SUMMARY: Notice is hereby given that the U.S. Department of Agriculture, Forest Service, intends to grant to Domtar Paper Company, LLC of Fort Mill, South Carolina, an exclusive license to U.S. Patent No. 9,540,244, “METHODS FOR SYNTHESIZING GRAPHENE FROM A LIGNIN SOURCE”, issued on January 10, 2017.

DATES: Comments must be received on or before August 13, 2018.

ADDRESSES: Send comments to: Thomas Moreland, Technology Transfer Coordinator, USDA Forest Service, 1400 Independence Avenue SW, Washington, DC 20250-1118, twmoreland@fs.fed.us.

FOR FURTHER INFORMATION CONTACT: Thomas Moreland, Technology Transfer Coordinator, USDA Forest Service, 443-677-6858, twmoreland@fs.fed.us.

SUPPLEMENTARY INFORMATION: The Federal Government's patent rights in this invention are assigned to the United States of America, as represented by the Secretary of Agriculture. It is in the public interest to so license this invention as Domtar Paper Company, LLC of Fort Mill, South Carolina has submitted a complete and sufficient application for a license. The prospective exclusive license will be royalty-bearing and will comply with the terms and conditions of 35 U.S.C. 209 and 37 CFR 404.7. The prospective exclusive license may be granted unless, within fifteen (15) days from the date of this published Notice, the Agricultural Research Service receives written evidence and argument which establishes that the grant of the license would not be consistent with the requirements of 35 U.S.C. 209 and 37 CFR 404.7.

Mojdeh Bahar,
Assistant Administrator.

[FR Doc. 2018-16135 Filed 7-26-18; 8:45 am]

BILLING CODE 3410-03-P